OVERSEAS PRIVATE INVESTMENT CORPORATION

Sunshine Act Cancellation Notice—OPIC December 3, 2014 Public Hearing

OPIC's Sunshine Act notice of its Public Hearing in Conjunction with each Board meeting was published in the Federal Register (79 FR 67209) on November 12, 2014. No requests were received to provide testimony or submit written statements for the record; therefore, OPIC's public hearing scheduled for 2 p.m., December 3, 2014 in conjunction with OPIC's December 11, 2014 Board of Directors meeting has been cancelled.

Contact person for information: Information on the hearing cancellation may be obtained from Connie M. Downs at (202) 336-8438, or via email at Connie.Downs@opic.gov.

Dated: November 26, 2014.
Connie M. Downs,
OPIC Corporate Secretary.

[FR Doc. 2014-28425 Filed 11-28-14; 11:15 am]

BILLING CODE 3210-01-P